DEPARTMENT OF ENERGY

Federal Energy Regulatory Commission

[Docket No. RP01-423-001]

Columbia Gas Transmission Corporation; Notice of Compliance Filing

July 27, 2001.

Take notice that on June 28, 2001, Columbia Gas Transmission Corporation (Columbia) tendered for filing supported information on the NTS Service Agreement No. 2001-5-10-002 filed on May 18, 2001, an agreement for firm transportation service to be provided by Columbia to DPL Energy (DPL Agreement).

Columbia states that it is filing the supported information in compliance with the Commission's June 13th order.

Columbia states that copies of the filing is being served to each party on the official service list in Docket No. RP01-423-000.

Any person desiring to protest said filing should file a protest with the Federal Energy Regulatory Commission, 888 First Street, N.E., Washington, D.C. 20426, in accordance with Section 385.211 of the Commission's Rules and Regulations. All such protests must be filed on or before August 3, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19275 Filed 8-1-01; 8:45 am]

BILLING CODE 6717-01-P